DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC

Docket Number: 04-022. Applicant: Virginia Commonwealth University, Department of Anatomy and Neurobiology, 1101 E. Marshall Street, Room 12-050, Box 980709, Richmond, VA 23298. Instrument: Transmission Electron Microscope, Model JEM-1230. Manufacturer: JEOL, Ltd., Japan. Intended Use: The instrument will be used to examine, analyze and reconstruct images of brain tissue derived from experimental animals subject to traumatic brain injury, various forms of epileptic seizure and various neurodegenerative disorders. Experiments with various antibodies will be used to determine various forms of neuronal cell injury and repair with computer-assisted reconstruction used to analyze related organelle and cytoskeletal change within neuronal somata and their dendritic and axonal processes. Application accepted by Commissioner of Customs: November 18, 2004.

Gerald A. Zerdy,
Program Manager, Statutory Import Programs Staff.

[FR Doc. E4-3646 Filed 12-13-04; 8:45 am]

BILLING CODE 3510-DS-P